DEPARTMENT OF COMMERCE

Foreign-Trade Zones Board

[B-19-2016]

Foreign-Trade Zone 172—Oneida County, New York; Application for Reorganization and Expansion Under Alternative Site Framework

An application has been submitted to the Foreign-Trade Zones (FTZ) Board by the County of Oneida, grantee of FTZ 172, requesting authority to reorganize and expand the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on April 12, 2016.

FTZ 172 was approved by the FTZ Board on January 8, 1991 (Board Order 502, 56 FR 1791; January 17, 1991). The current zone includes the following sites: Site 1 (534 acres)—Oneida County Airport Industrial Park, Oneida County Airport, Oriskany; Site 2 (412 acres)—West Rome Industrial Park, 1 Success Dr, Rome; Site 2a (100 acres)—Griffiss Business & Technology Park Hanger Road, Rome; Site 3 (100 acres)—Boonville Industrial Park, Industrial Road, Boonville; Site 4 (82 acres)—Utica Business Park, Business Park Drive, Utica; and, Site 5 (52 acres)—East Arterial Industrial Park, Dwyer Avenue, Utica. The zone also includes Subzone 172A (Oneida Ltd.) with three sites in Sherrill and Oneida, New York.

The grantee's proposed service area under the ASF would be Oneida County, New York, as described in the application. If approved, the grantee would be able to serve sites throughout the service area based on companies' needs for FTZ designation. The application indicates that the proposed service area is within and adjacent to the Syracuse, New York Customs and Border Protection port of entry.

The applicant is requesting authority to renumber existing Site 2a as Site 6 and to include the renumbered Site 6 as a “magnet” site, as well as to remove Sites 1, 2, 3, 4, 5 and Subzone 172A. The ASF allows for the possible exemption of one magnet site from the “sunset” time limits that generally apply to sites under the ASF, and the applicant proposes that Site 6 be so exempted. The applicant is also requesting approval of the following magnet site: Proposed Site 7 (316.5 acres)—Marcy Nanocenter at SUNYIT, 5737 Marcy-SUNYIT Parkway, Marcy, Oneida County.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary at the address below. The closing period for their receipt is June 14, 2016. Rebuttal comments in response to material submitted during the foregoing period may be submitted during the subsequent 15-day period to June 29, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Elizabeth Whiteman at Elizabeth.Whiteman@trade.gov or (202) 482-0473.

Dated: April 12, 2016.
Andrew McGilvray,
Executive Secretary.

[FR Doc. 2016-08791 Filed 4-14-16; 8:45 am]

BILLING CODE 3510-DS-P